COMMITTEE FOR THE IMPLEMENTATION OF TEXTILE AGREEMENTS

Removal of Export Visa and ELVIS Requirements for Certain Cotton and Man-Made Fiber Textiles and Textile Products Produced or Manufactured in the People's Republic of China

January 20, 2004.

AGENCY: Committee for the Implementation of Textile Agreements (CITA).

ACTION: Issuing a directive to the Commissioner, Bureau of Customs and Border Protection removing visa and ELVIS requirements.

EFFECTIVE DATE: January 23, 2004.

FOR FURTHER INFORMATION CONTACT: Roy Unger, International Trade Specialist, Office of Textiles and Apparel, U.S. Department of Commerce, (202) 482-4212. For information on the quota status of these limits, refer to the Quota Status Reports posted on the bulletin boards of each Customs port, call (202) 927-5850, or refer to the Bureau of Customs and Border Protection Web site at http://www.cbp.gov. For information on embargoes and quota re-openings, refer to the Office of Textiles and Apparel Web site at http://otexa.ita.doc.gov.

SUPPLEMENTARY INFORMATION:

Authority: Section 204 of the Agricultural Act of 1956, as amended (7 U.S.C. 1854); Executive Order 11651 of March 3, 1972, as amended.

On December 24, 2003, as provided for under paragraph 242 of the Report of the Working Party on the Accession of China to the World Trade Organization (Accession Agreement), the United States requested consultations with the Government of the People's Republic of China with respect to imports of Chinese origin products in Categories 222, 349/649 and 350/650. Through a letter published on December 29, 2003, the Chairman of CITA directed the Commission, U.S. Customs and Border Protection, to establish a twelve-month limit on these products, beginning on December 24, 2003, and extending through December 23, 2004. 68 FR 74944, 74945, and 74947. At the same time, the Chairman of CITA directed the Commissioner to require that shipments of these products be accompanied by an export visa and Electronic Visa Information System (ELVIS) transmission issued by the Government of the People's Republic of China; this requirement did not apply to shipments exported prior to January 23, 2004. During consultations, the Government of the People's Republic of China objected to the requirement that shipments of these products be accompanied by an export visa and ELVIS transmission. Therefore, effective on January 23, 2004, the United States is rescinding the visa and ELVIS requirements for products in these categories; the quota limits remain in effect. CITA will revisit this issue if the situation warrants.

A description of the textile and apparel categories in terms of HTS numbers is available in the CORRELATION: Textile and Apparel Categories with the Harmonized Tariff Schedule of the United States (see Federal Register notice 68 FR 1599, published on January 13, 2003). Information regarding the availability of the 2004 CORRELATION will be published in the Federal Register at a later date. Also see 62 FR 15465, published on April 1, 1997.

James C. Leonard III,
Chairman, Committee for the Implementation of Textile Agreements.

The Committee for the Implementation of Textile Agreements

January 20, 2004.

Commissioner,

Bureau of Customs and Border Protection, Washington, DC 20229.

Dear Commissioner: This directive amends, but does not cancel, the 3 directives issued to you on December 23, 2003. Those directives concern the establishment of quota and visa requirements for certain cotton and man-made fiber textiles and textile products in Categories 222, 349/649, and 350/650, produced or manufactured in China and exported during the period beginning on December 24, 2003 and extending through December 23, 2004.

Effective on January 23, 2004, you are directed to remove the visa and ELVIS requirements for textile products in Categories 222, 349/649, and 350/650. However, the quota limits remain in effect.

The Committee for the Implementation of Textile Agreements has determined that this action falls within the foreign affairs exception of the rulemaking provisions of 5 U.S.C. 553(a)(1).

Sincerely,
James C. Leonard III,
Chairman, Committee for the Implementation of Textile Agreements.

[FR Doc. 04-1509 Filed 1-21-04; 9:57 am]

BILLING CODE 3510-DR-S